DEPARTMENT OF TRANSPORTATION

National Highway Traffic Safety Administration

[Docket Number: NHTSA-2017-0057]

Reports, Forms, and Record Keeping Requirements Agency Information Collection Activity Under OMB Review

AGENCY: National Highway Traffic Safety Administration (NHTSA), DOT.

ACTION: Notice and request for comments.

SUMMARY: In compliance with the Paperwork Reduction Act of 1995, this notice announces that the Information Collection Request (ICR) abstracted below is being forwarded to the Office of Management and Budget (OMB) for review and comments. The ICR describes the nature of the information collection and its expected burden. A Federal Register Notice with a 60-day comment period soliciting public comments on the following information collection was published on September 6, 2017. This notice addresses comments received.

DATES: Written comments should be submitted on or before November 5, 2018.

ADDRESSES: Send comments to the Office of Information and Regulatory Affairs, Office of Management and Budget, 725 17th Street NW, Washington, DC 20503, Attention: NHTSA Desk Officer.

FOR FURTHER INFORMATION CONTACT: For additional information or access to background documents, contact Amy Berning, Office of Behavioral Safety, National Highway Traffic Safety Administration, 1200 New Jersey Avenue SE, W46-497, Washington, DC 20590; telephone: (202) 366-5587; email: amy.berning@dot.gov.

SUPPLEMENTARY INFORMATION:

I. Information Collection Request

Before a Federal agency can collect certain information from the public, it must receive approval from the Office of Management and Budget (OMB). In compliance with these requirements, this notice announces that the following information collection request has been forwarded to OMB.

OMB Control Number: To be issued at time of approval.

Title: Drug Use Characteristics of Drivers Arrested for Driving Under the Influence (DUI) or Driving Under the Influence of Drugs (DUID).

Form Numbers: NHTSA Form 1468, 1469.

Type of Review: New information collection.

Abstract:

NHTSA proposes to conduct a study to estimate the prevalence of drugs in drivers arrested for driving under the influence or driving under the influence of a drug. Approximately 1,000 drivers arrested for DUI or DUID at two or three locations across the country will be interviewed and administered an oral fluid drug test. The primary aim of this project is to better understand the frequency of alcohol, prescription, over-the-counter (OTC), and illicit drugs in impaired driving arrests. Trained researchers will ask participants questions regarding demographics, driving, alcohol, and drug use. Participants will then be asked to provide an oral fluid sample using a collection device which will be used to test for alcohol and approximately 50 other specific drugs.

Data collection will take place over a six-month period at two to three sites across the country. The research team will coordinate with the local police departments and officials at these sites. The sites will have a private room at the booking facility for use by the research team. Each site will have at least 1,250 impaired driving arrests per year and be willing to enter into a Memorandum of Understanding with the research team regarding the study.

Data for the study will primarily be collected at a central booking facility for the site's police department. Upon arriving at the booking facility, the arresting officer or other approved police staff will briefly inform the potential participants that they have the opportunity to participate in a research study sponsored by NHTSA. Police staff will ask the participants if they would be interested in learning more about the study. If they respond yes, then they will be introduced to the trained research staff in the private study room.

The research staff will further describe the study to the potential participant. The researcher will explain to the potential participant that study data is anonymous, s/he must be 18 years of age or older to participate, s/he is free to withdraw from the study at any time, the results of the drug test and questionnaire will not be provided to anyone outside of the research team (including to the participant), and participation in the study will not be used to help or hurt the individual in any related legal proceedings. If the individual agrees to participate, then he or she will be asked to take an oral fluid drug test. This is essentially a cotton swab that must be held in an individual's mouth for approximately two to three minutes (no more than ten minutes). The oral fluid specimen will be shipped to an independent laboratory for analysis. The participant will be asked to respond to approximately ten minutes of questions through a self-report survey on alcohol and drug use, perceptions of impaired driving, and driving behaviors. The survey will be completed via an electronic tablet or, where deemed necessary, a paper copy of the survey. All electronic data will be recorded on a secure data collection and management site without any identifying information.

A goal of the collection will be to minimize the possibility of collecting any potentially-identifying information on a participant. The drug test result will be associated with participant responses using a subject code, but no identifying information on the participant will be collected.

Respondents: The research will collect both an oral fluid drug test and a questionnaire from approximately 1,000 participants. Data collection will take place over a six-month period at two to three sites across the United States.

Estimated Time per Response: It will take just under 15 minutes to participate. We anticipate that it will take 1.5 minutes (i.e., 90 seconds) for the individual to hear about the study and process the information. Our total burden estimate includes this 90-second estimate for 1,200 individuals, with the goal of 1,000 participants (total burden 30 hours). It will take an average of an additional 1.2 minutes for participants to ask any questions and verbally agree to participate in the study (total burden 20 hours). This results in an estimated 50 total burden hours for the verbal consent process. The drug test and questionnaire will be completed at a single point in time. It can take up to 10 minutes to collect a sufficient quantity of saliva for the oral fluid drug test. However, it is anticipated that the average oral fluid collection time is four minutes and the survey will take an additional eight minutes to complete (i.e., 12 total minutes). The total burden for the participant questionnaire and oral fluid collection is 200 hours.

Estimated Total Annual Burden: 250 hours total over the six-month data collection period.

Frequency of Collection: Each participant will only respond to the survey and/or biological sample requests a single time during the six-month study period.

II. Comment Response

On September 9th, 2017, NHTSA published a notice in the Federal Register (NHTSA-2017-0057) with a 60-day public comment period to announce this proposed information collection. As of the closing date of November 6th, 2017 two comments were received in response to this notice.

One comment described frustration with the EPA and massive costs of regulation. This project does not involve the EPA and the comment is thus not relevant to the current project. A second commenter emailed NHTSA directly to request access to the project's full methodology.

The comment will be provided to OMB to be placed in the docket. The methodology will be available from OMB upon NHTSA's submission of the Information Collection Request to OMB.

Authority: The Paperwork Reduction Act of 1995; 44 U.S.C. Chapter 35, as amended; and 49 CFR 1.95.

Issued in Washington, DC, on October 1, 2018.
Jeff Michael,
Associate Administrator, Research and Program Development.

[FR Doc. 2018-21623 Filed 10-3-18; 8:45 am]

BILLING CODE 4910-59-P